DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before February 1, 2016 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by email at PRA@treasury.gov or the entire information collection request may be found at www.reginfo.gov.

SUPPLEMENTARY INFORMATION:

Internal Revenue Service (IRS)

OMB Number: 1545-0771.

Type of Review: Extension without change of a previously approved collection.

Title: TD 8864 (Final); EE-63-88 (Final and temp regulations) Taxation of Fringe Benefits and Exclusions From Gross Income for Certain Fringe Benefits; IA-140-86 (Temporary) Fringe Benefits.

Abstract: This regulation provides guidance on the tax treatment of taxable and nontaxable fringe benefits and general and specific rules for the valuation of taxable fringe benefits in accordance with Code sections 61 and 132 and provides guidance on exclusions from gross income for certain fringe benefits (IA-140-86). This regulation provides guidance relating to the requirement that any deduction or credit with respect to business travel, entertainment, and gift expenses be substantiated with adequate records in accordance with Code section 274(d).

Affected Public: Private Sector: Businesses or other for-profit.

Estimated Annual Burden Hours: 37,922,688.

OMB Number: 1545-1353.

Type of Review: Extension without change of a previously approved collection.

Title: TD 8517: Debt Instruments With Original Discount; Imputed Interest on Deferred Payment Sales or Exchanges of Property; TD 9599: Property Traded on an Established Market.

Abstract: This document contains regulations relating to the tax treatment of debt instruments with original issue discount and the imputation of interest on deferred payments under certain contracts for the sale or exchange of property and determining when property is traded on an established market for purposes of determining the issue price of a debt instrument. The regulations provide needed guidance to holders and issuers of debt instruments.

Affected Public: Private Sector: Businesses or other for-profits.

Estimated Annual Burden Hours: 195,500.

OMB Number: 1545-1520.

Type of Review: Revision of a previously approved collection.

Title: Revenue Procedures 2016-4 (Letter Rulings), 2011-5 (Technical Advice), 2016-6 (Determination Letters), and 2016-8 (User Fees).

Abstract: The information requested in Revenue Procedures 2016-4, 2011-5, 2016-6, and 2016-8 is required to enable the Internal Revenue Service to give advice on filing letter ruling, determination letter, and technical advice requests, to process such requests, and to determine the amount of any user fees.

Affected Public: Private Sector: Businesses or other for-profits.

Estimated Annual Burden Hours: 45,787.

OMB Number: 1545-1809.

Type of Review: Revision of a previously approved collection.

Title: Credit for Employer-Provided Childcare Facilities and Services.

Form: 8882.

Abstract: Qualified employers use Form 8882 to request a credit for employer-provided childcare facilities and services. Section 45F provides credit based on costs incurred by an employer in providing childcare facilities and resource and referral services. The credit is 25% of the qualified childcare expenditures plus 10% of the qualified childcare resource and referral expenditures for the tax year, up to a maximum credit of $150,000 per tax year.

Affected Public: Private Sector: Businesses or other for-profits.

Estimated Annual Burden Hours: 1,053.

OMB Number: 1545-2002.

Type of Review: Extension without change of a previously approved collection.

Title: Notice 2006-25 (superseded by Notice 2007-53), Qualifying Gasification Project Program.

Abstract: This notice establishes the qualifying gasification project under Section 48B of the Internal Revenue Code. This notice provides the time and manner for a taxpayer to apply for an allocation of qualifying gasification project credits.

Affected Public: Private Sector: Businesses or other for-profits.

Estimated Annual Burden Hours: 1,700.

OMB Number: 1545-2003.

Type of Review: Extension without change of a previously approved collection.

Title: Notice 2006-24, Qualifying Advanced Coal Project Program.

Abstract: Notice 2006-24 establishes the qualifying advanced coal project program under Sec. 48A of the Internal Revenue Code. The notice provides the time and manner for a taxpayer to apply for an allocation of qualifying advanced coal project credits and, once the taxpayer has received this allocation, the time and manner for the taxpayer to file for a certification of its qualifying advanced coal project.

Affected Public: Private Sector: Businesses or other for-profits.

Estimated Annual Burden Hours: 4,950.

OMB Number: 1545-2141.

Type of Review: Extension without change of a previously approved collection.

Title: Notice 2009-31—Election and Notice Procedures for Multiemployer Plans under Sections 204 and 205 of WRERA.

Abstract: The guidance in this notice implements temporary, elective relief under the Workers, Retirees, and Employers Relief Act of 2008 (WRERA), which was enacted December 2008 for multi-employer pension plans from certain funding requirements.

Affected Public: Private Sector: Businesses or other for-profits.

Estimated Annual Burden Hours: 1,600.

OMB Number: 1545-2143.

Type of Review: Extension without change of a previously approved collection.

Title: Notice 2009-26, Build America Bonds and Direct Payment Subsidy Implementation.

Abstract: This Notice provides guidance on the tax incentives for Build America Bonds under § 54AA of the Internal Revenue Code (“Code”) and the implementation plans for the refundable credit payment procedures for these bonds. It includes guidance on the modified Build America Bond program for Recovery Zone Economic Development Bonds under § 1400U-2 of the Code. The Notice also provides guidance on the initial refundable credit payment procedures, required elections, and information reporting and solicits public comments on the refundable credit payment procedures for these bonds. This Notice is intended to facilitate prompt implementation of the Build America Bond program and to enable state and local governments to begin issuing these bonds for authorized purposes to promote economic recovery and job creation.

Affected Public: State, Local, and Tribal Governments.

Estimated Annual Burden Hours: 15,000.

OMB Number: 1545-2155.

Type of Review: Extension without change of a previously approved collection.

Title: TD 9469 (REG-102822-08) Section 108 Reduction of Tax Attributes for S Corporations.

Abstract: The regulation provides guidance to S corporations that must reduce their tax attributes under section 108(b) of the Internal Revenue Code for taxable years in which an S corporation incurs discharge of indebtedness income that is excluded under section 108(a). The regulations will affect S corporations and their shareholders. The collection of information in the regulations requires shareholders to inform the S corporation of a shareholder-level tax attribute that the S corporation must reduce under section 108(b). Following the tax attribute reduction, the S corporation must inform the shareholders of the remaining balance, if any, of the shareholder's tax attribute.

Affected Public: Private Sector: Businesses or other for-profits.

Estimated Annual Burden Hours: 1,000.

OMB Number: 1545-2262.

Type of Review: Extension without change of a previously approved collection.

Title: Form 5498-QA (ABLE Account Contribution Information) and 1099-QA (Distributions from ABLE Accounts).

Form: 5498-QA, 1099-QA.

Abstract: This form will be used to report the contributions of Achieving a Better Life Experience (ABLE) accounts under IRC 529A. IRS uses the information to verify compliance with the reporting rules and to verify that the recipient has included the proper amount of income on his or her income tax return.

Affected Public: Private Sector: Businesses or other for-profits; farms; Not-for-profit institutions.

Estimated Annual Burden Hours: 3,600.

Dated: December 28, 2015.
Dawn D. Wolfgang,
Treasury PRA Clearance Officer.

[FR Doc. 2015-32913 Filed 12-30-15; 8:45 am]

BILLING CODE 4830-01-P